DEPARTMENT OF STATE

[Public Notice 5303]

Shipping Coordinating Committee; Notice of Meeting

The Shipping Coordinating Committee (SHC) will conduct an open meeting at 10 a.m. on Wednesday, April 12, 2006, in Room 1422 of the United States Coast Guard Headquarters Building, 2100 2nd Street, SW., Washington, DC, 20593-0001. The purpose of this meeting is to prepare for the Ninety-first Session of the International Maritime Organization's (IMO) Legal Committee (LEG 91) scheduled from 24-28 April 2005.

The provisional LEG 91 agenda calls for the Legal Committee to further examine the draft Wreck Removal Convention. To be addressed as well are the Provisions of Financial Security which includes a progress report on the work of the Joint IMO/ILO Ad Hoc Expert Working Group on Liability and Compensation regarding claims for Death, Personal Injury and Abandonment of Seafarers; and includes follow-up resolutions adopted by the International Conference on the Revision of the Athens Convention relating to the Carriage of Passengers and their Luggage by Sea, 1974. The Legal Committee will examine Fair Treatment of Seafarers, with a report of the second session of the Joint IMO/ILO Ad Hoc Expert Working Group on Fair Treatment of Seafarers which will take place from 13-17 March 2006. Also on the LEG 91 agenda are places of refuge, monitoring of the implementation of the HNS Convention, and matters arising from the ninety-fourth session of the Council, the ninety-fifth session of the Council, the twenty-third extraordinary session of the Council, and the twenty-fourth meeting of the Assembly. Finally the committee will review technical cooperation activities related to maritime legislation and will review biennium activities within the context of the Organization's Strategic Plan, in addition to allotting time to address any other issues that may arise on the Legal Committee's work program, including a proposed CMI study on the implementation of procedural rules in limitation conventions.

Members of the public are invited to attend the SHC meeting up to the seating capacity of the room. To facilitate the building security process, those who plan to attend should call or send an e-mail two days before the meeting. Upon request, participating by phone may be an option. For further information please contact Captain William Baumgartner or Lieutenant Laurina Spolidoro, at U.S. Coast Guard, Office of Maritime and International Law (G-LMI), 2100 Second Street, SW., Washington, DC 20593-0001; e-mail lspolidoro@comdt.uscg.mil, telephone (202) 267-0733; fax (202) 267-4496.

Dated: February 23, 2006.
Clay Diamond,
Executive Secretary, Shipping Coordinating Committee, Department of State.

[FR Doc. E6-3011 Filed 3-1-06; 8:45 am]

BILLING CODE 4710-09-P